DEPARTMENT OF HEALTH AND HUMAN SERVICES

Centers for Disease Control and Prevention

BECAUSE Kids Count! (Building and Enhancing Community Alliances United for Safety and Empowerment)

Announcement Type: New.

Funding Opportunity Number: 04142.

Catalog of Federal Domestic Assistance Number: 93.136.

Key Dates:

Letter of Intent Deadline: May 25, 2004.

Application Deadline: July 9, 2004.

I. Funding Opportunity Description

Authority: This program is authorized under section 317(k)(2) of the Public Health Service Act, (42 U.S.C. 247b(k)(2).

Purpose: The Centers for Disease Control and Prevention (CDC) announces the availability of fiscal year (FY) 2004 cooperative agreement funds to build or expand the capacity of national organizations and their state, local, regional and/or tribal affiliates to address the prevention of child maltreatment, which includes physical abuse, emotional abuse, neglect, and sexual abuse. Research suggests that these areas of violence have risk and protective factors across multiple domains of influence as represented by the ecological model presented in the World Report on Violence and Health (Krug et al., 2002) including individual, relationship, community and societal levels. Violence prevention efforts in child maltreatment include activities that are aimed at addressing the individual, relationship, community and societal factors of potential victims, perpetrators and bystanders.

The specific purposes of this funding are to:

1. Provide an opportunity for national organizations to expand their leadership role in addressing the prevention of child maltreatment by disseminating the key concepts of prevention, evaluation, and the ecological model, models for community assessment and action, and evidence-based prevention strategies within their own organizations. An emphasis will be placed on preventing child maltreatment before it occurs.

2. Foster effective collaborations within the organizations and their affiliates to respond to emerging policy and program issues related to the prevention of child maltreatment.

3. Conduct organizational assessments of infrastructure capabilities, staff and structural capacities, organizational definitions, understandings, and applications of prevention principles and key concepts. The assessments should also determine organizational readiness for dissemination of child maltreatment prevention concepts and strategies, and organizational barriers and facilitators, with an emphasis on preventing child maltreatment before it ever occurs.

4. Develop a prevention plan based upon information obtained from the organizational assessments, as well as an inventory of initiatives and a review of organizational data related to the prevention of child maltreatment. The plan for future activities should have an emphasis on preventing child maltreatment before it occurs.

This program addresses the “Healthy People 2010” focus area of Injury and Violence Prevention.

Measurable outcomes of the program will be in alignment with the following performance goal for the National Center for Injury Prevention and Control (NCIPC): Increase the capacity of injury prevention and control programs to address the prevention of injuries and violence.

For the purposes of this program announcement the following definitions apply:

Child maltreatment: “Child abuse or maltreatment constitutes all forms of physical and/or emotional ill-treatment, sexual abuse, neglect or negligent treatment or commercial or other exploitation, resulting in actual or potential harm to the child's health, survival, development or dignity in the context of a relationship of responsibility, trust or power” (Report of the Consultation on Child Abuse Prevention, 29-31 March 1999, WHO, Geneva. Geneva, World Health Organization (WHO), 1999 (document WHO/HSC/PVI/99.1)).

Prevention: Individual, relationship or family, community, and/or environmental/system level strategies, policies and actions that prevent violence from initially occurring. Prevention efforts work to modify and/or entirely eliminate the event, conditions, situations, or exposure to influences (risk factors) that result in the initiation of violence and associated injuries, disabilities, and deaths. Additionally, prevention efforts seek to identify and enhance protective factors that may prevent violence not only in at-risk populations but also in the community at large. Prevention efforts for child maltreatment include activities that are aimed at addressing the individual, relationship, community and societal factors that influence potential perpetrators, victims, and bystanders.

Intervention: Services, policies and actions provided after child maltreatment has occurred.

Activities: Awardee activities for this program are as follows:

1. Develop, expand, and/or maintain a child maltreatment prevention Work Group comprised of persons with expertise and experience in the areas of child maltreatment, child health, and child well-being, including public health. This group will:

a. Provide consultation to the awardee and assist in guiding planning efforts.

b. Assist in identifying organizational prevention programs and data sources.

c. Assist in the development of a prevention plan (as defined by this announcement). This plan should guide the organization's efforts to address the prevention of child maltreatment or one or more specific components of child maltreatment, such as physical abuse, emotional abuse, neglect, and/or sexual abuse.

d. Seek support and resources to implement the strategies and recommendations detailed in the prevention plan.

2. Review existing data and conduct an inventory of initiatives within the organization and its affiliates related to the prevention of child maltreatment. This should be done in conjunction with CDC:

a. Develop and conduct an organizational inventory of child maltreatment prevention programs; at minimum, the inventory should include the number of programs, intended audience, content, and resources devoted to the programs.

b. Compile a report on organizational policies and research activities focused on the prevention of child maltreatment.

c. Review existing organizational data related to the prevention of child maltreatment.

d. Prepare a report summarizing the findings from 2a, 2b, and 2c. Include plans for using these data to inform the prevention-planning document described below in number four.

3. Conduct assessments, using available guidance and direction from CDC, to determine the level of organizational commitment, interest and readiness to fully engage in efforts to prevent child maltreatment.

a. Assess the status of the organization and its affiliates with regard to carrying out activities that support the purposes of this program and their needs for training, technical assistance, materials, and other resources.

b. Conduct an organization-wide assessment of readiness for dissemination of child maltreatment prevention concepts and strategies.

4. Develop a prevention plan that will guide the organization's efforts to prevent child maltreatment, or one or more components of child maltreatment, such as physical abuse, emotional abuse, neglect, and/or sexual abuse. The plan should address global risk and protective factors, and identify strategies to address the complex ecological factors that influence violence. Specifically, the plan must provide strategies that address individual, relationship, community, and societal factors. In addition, the prevention plan should include a logic model and time-phased implementation strategies.

5. Identify strategies that will provide support for sustaining and enhancing future prevention activities by addressing the following: (1) Ongoing collaboration and community involvement; (2) Ongoing commitment; (3) Ongoing communication; (4) Evaluation; and (5) Other issues associated with the selected topic area.

6. Launch the national organization's child maltreatment prevention plan.

7. Collaborate with CDC and other awardees on an ongoing basis to ensure consensus and uniformity related to core measures, tools, and processes, through conference calls and traveling to required awardee meetings, including training sessions, evaluation meetings, and project updates.

8. Submit required reports to CDC as scheduled.

In a cooperative agreement, CDC staff is substantially involved in the program activities, above and beyond routine grant monitoring.

CDC Activities for this program are as follows:

1. Provide updated information related to the purposes and activities of this program announcement.

2. Provide technical assistance and consultation in the development, implementation, and evaluation of assessment instruments and the organization's plan to prevent child maltreatment, including program objectives and performance measures.

3. Coordinate information sharing among relevant CDC awardees and partners to ensure consensus and uniformity related to core measures, tools, and processes.

4. Provide assistance with program planning to assure consistency with program goals for capacity building, including the use of logic models and other public health tools and resources.

5. Collaborate with awardees to plan and implement partner meetings, conferences, and trainings to provide forums through which awardees can increase their knowledge and skills, learn from each other, share resources, and work collaboratively to address issues related to child maltreatment prevention.

6. Participate in the Work Group's strategic planning meetings.

II. Award Information

Type of Award: Cooperative Agreement. CDC involvement in this program is listed in the Activities Section above.

Fiscal Year Funds: 2004.

Approximate Total Funding: $600,000.

Approximate Number of Awards: Three.

Approximate Average Award: $200,000.

Floor of Award Range: $150,000.

Ceiling of Award Range: $200,000.

Anticipated Award Date: September 1, 2004.

Budget Period Length: 12 months.

Project Period Length: Two years.

Throughout the project period, CDC's commitment to continuation of awards will be conditioned on the availability of funds, evidence of satisfactory progress by the recipient (as documented in required reports), and the determination that continued funding is in the best interest of the Federal Government.

III. Eligibility Information

III.1. Eligible Applicants

Eligible applicants are national organizations that are non-profit and non-governmental, including national faith-based organizations, that work in the area of child maltreatment (i.e., physical abuse, emotional abuse, neglect, and/or sexual abuse). Eligible applicants must have state, local, regional, and/or tribal affiliates and provide support to these affiliates.

III.2. Cost Sharing or Matching

Matching funds are not required for this program.

III.3. Other Eligibility Requirements

If your application is incomplete or non-responsive to the requirements listed below, it will not be entered into the review process. You will be notified that your application did not meet the submission requirements.

• Effective and well-defined working relationships between the national organization and its affiliates, as well as entities outside the national organization, which will ensure implementation of proposed activities.

• The requested funding amount should not be greater than the ceiling amount of $200,000.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Forms are available on the CDC web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

Pre-Application Conference Call: For interested applicants, one pre-application technical assistance call will be conducted. The call will be held for one hour. The conference call name is BECAUSE Kids Count! The call date and time is May 24, 2004, at 9:30 a.m. Eastern time. Call USA toll free (888) 528-9061. The leader will be Ms. Pat Bender. The pass code is 15033. For security reasons, the pass code and the leader's name will be required to join the call.

IV.2. Content and Form of Submission

Letter of Intent (LOI)

Your LOI must be written in the following format:

• Maximum number of pages: two

• Font size: 12-point unreduced

• Paper size: 8.5 by 11 inches

• Single spaced

• Page margin size: One inch

• Printed only on one side of page

• Written in plain language, avoid jargon

Your LOI must contain the following information:

• Number and title of this Program Announcement

• Brief description of your organization including the component(s) of child maltreatment that your organization addresses

• Number of affiliates

• Organizational structure

• Requirements for affiliation

Application

You must include a project narrative with your application forms. Your narrative must be submitted in the following format:

• Maximum number of pages: 25. If your narrative exceeds the page limit, only the first 25 pages of the application which are within the page limit will be reviewed.

• Font size: 12 point unreduced

• Double spaced

• Paper size: 8.5 by 11 inches

• Page margin size: One inch

• Printed only on one side of page

• Held together only by rubber bands or metal clips; not bound in any other way (e.g., do not use staples).

Your narrative should address activities to be conducted over the entire project period, and must include the following items in the order listed:

• Abstract (one-page summary of the application, does not count towards page limit)

• Relevant Experience

• Work Plan

• Collaboration

• Capacity and Staffing

• Evaluation

• Measures of Effectiveness

• Proposed Budget and Justification (does not count towards page limit)

Additional information may be included in the application appendices. The appendices will not be counted toward the narrative page limit. This additional information includes:

• Curriculum Vitaes

• Job Descriptions

• Resumes

• Organizational Charts

• Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: June 23, 2004.

CDC requests that you send a LOI if you intend to apply for this program. Although the LOI is not required, not binding, and does not enter into the review of your subsequent application, the LOI will be gauge the level of interest in this program, and to allow CDC to plan the application review.

Application Deadline Date: June 23, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carrier's guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

CDC will notify you upon receipt of your application. If you have a question about the receipt of your application, first contact your courier. If you still have a question, contact the PGO-TIM staff at: 770-488-2700. Before calling, please wait two to three days after the application deadline. This will allow time for applications to be processed and logged.

IV.4. Intergovernmental Review of Application

Executive Order 12372 does not apply to this program.

IV.5. Funding Restrictions

Restrictions, which must be taken into account while writing your budget, are as follows: Cooperative agreement funds for this project cannot be used for construction, renovation, the lease of passenger vehicles, the development of major software applications, or supplanting current applicant expenditures.

If you are requesting indirect costs in your budget, you must include a copy of your indirect cost rate agreement. If your indirect cost rate is a provisional rate, the agreement must be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Margaret Brome, Project Officer, 2939 Flowers Road South, Atlanta, GA 30341, Telephone: 770-488-1721, Number: 770-488-1360, E-mail: MBrome@cdc.gov.

Application Submission Address: Submit the original and two hard copies of your application by mail or express delivery service to: Technical Information Management—PA# 04142, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Relevant Experience (30 Points)

a. Does the applicant demonstrate experience coordinating, collaborating and providing leadership with regard to child maltreatment or a specific component of child maltreatment, such as physical abuse, emotional abuse, neglect, or sexual abuse?

b. Does the applicant demonstrate experience managing a work group?

c. Does the applicant demonstrate experience in collecting and using organizational assessment data? Does the applicant have experience using data to determine organizational priorities?

d. Does the applicant demonstrate experience identifying and prioritizing violence-related strategies, especially in the field of child maltreatment or in a specific component of child maltreatment?

e. Does the applicant demonstrate experience developing strategic plans?

2. Work Plan (30 Points)

a. Does the applicant include a detailed work plan, including a time-line for the first year?

b. Does the applicant provide clearly stated goals and corresponding objectives that are specific, measurable, attainable, realistic and time-phased?

c. Does the applicant provide details about how the inventory of initiatives and review of data related to the prevention of child maltreatment within the organization and its affiliates will be achieved? Does the applicant describe how the assessments of the needs of the organization and its affiliates will be conducted relative to training, technical assistance, materials, and other resources? Does the applicant describe how it will assess the readiness of the organization and its affiliates to disseminate child maltreatment prevention concepts and strategies?

d. Does the applicant describe how the inventory and assessments will be integrated into the organization's prevention plan for child maltreatment?

e. Does the applicant describe how the prevention plan will be developed? Does the applicant provide details about what strategies will be used to obtain support for the prevention plan within the organization and its affiliates?

f. Does the applicant indicate a willingness to embrace prevention concepts, that is preventing initial perpetration? Does the applicant incorporate strategies that are aimed at addressing individual, relationship, community and societal factors, which are elements of the ecological model?

3. Collaboration (20 Points)

a. Does the applicant describe the composition, role and involvement of the Work Group, and identify or propose participants representing a broad range of disciplines that work in the areas of child maltreatment, child health, and child well being, including public health?

b. Does the applicant demonstrate a willingness to collaborate with CDC in the assessment and prevention planning activities? Does the applicant demonstrate a willingness to collaborate with relevant CDC awardees and partners? Does the applicant demonstrate a willingness to work with CDC and the other awardees to reach consensus and uniformity in selecting core measures, tools, and processes?

c. Does the applicant demonstrate a successful history of collaborating effectively with other organizations? Does the applicant include letters of support and/or memoranda of agreement from organizations, research and/or academic experts/institutions, and other agencies and organizations, including public health agencies and organizations that work with children?

d. Does the applicant demonstrate a clear plan for involving state, local, regional, and/or tribal affiliates in the assessment and planning processes?

4. Capacity and Staffing (10 Points)

a. Does the applicant demonstrate existing capacity, infrastructure, and evidence of leadership to carry out the required activities? Does the applicant demonstrate an ability to effectively manage and implement the required activities?

b. Does the applicant describe the responsibilities of individual staff members, including their level of effort and allocation of time?

c. Does the applicant describe project staff and their relevant skills and expertise for their assigned tasks relative to this announcement?

d. Does the applicant include an organizational chart?

5. Evaluation (10 Points)

a. Does the applicant provide a detailed description of the methods to be used to evaluate the project?

b. Does the applicant demonstrate a willingness to collaborate with CDC and other awardees in the development of a logic model?

6. Measures of Effectiveness (Not Scored)

Does the applicant provide objective/quantifiable measures regarding the intended outcomes that will demonstrate the accomplishment of the various identified objectives of the cooperative agreement?

7. Proposed Budget and Justification (Not Scored)

Does the applicant provide a detailed budget with complete line-item justification of all proposed costs consistent with the stated activities in the program announcement? Details must include a breakdown in the categories of personnel (with time allocations for each), staff travel, communications and postage, equipment, supplies, and any other costs? Does the budget projection include a narrative justification for all requested costs? Any sources of additional funding beyond the amount stipulated in this cooperative agreement should be indicated, including donated time or services. For each expense category, the budget should indicate CDC share, the applicant share and any other support. These funds should not be used to supplant existing efforts.

V.2. Review and Selection Process

Applications will be reviewed for completeness by the Procurement and Grants Office (PGO) staff, and for responsiveness by NCIPC. Incomplete applications and applications that are non-responsive to the eligibility criteria will not advance through the review process. Applicants will be notified that their application did not meet submission requirements.

A Special Emphasis Panel will evaluate your application according to the criteria listed in the “V.1. Criteria” section above.

V.3. Anticipated Announcement and Award Date

August 15, 2004

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Parts 74 or 92

For more information on the Code of Federal Regulations, see the National Archives and Records Administration at the following Internet address: http://www.access.gpo.gov/nara/cfr/cfr-table-search.html.

The following additional requirements apply to this project:

• AR-10 Smoke-Free Workplace Requirements

• AR-11 Healthy People 2010

• AR-12 Lobbying Restrictions

• AR-13 Prohibition on Use of CDC Funds for Certain Gun Control Activities

• AR-15 Proof of Non-Profit Status

Additional information on these requirements can be found on the CDC web site at the following Internet address: http://www.cdc.gov/od/pgo/funding/ARs.htm.

Projects that involve the collection of information from ten or more individuals and funded by cooperative agreement will be subject to review by the Office of Management and Budget (OMB) under the Paperwork Reduction Act.

VI.3. Reporting Requirements

You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Margaret Brome, Project Officer, 4770 Buford Hwy., NE, MS-K60, Atlanta, GA 30341-3724, Telephone: 770-488-1721, E-mail: MBrome@cdc.gov.

For financial, grants management, or budget assistance, contact: Angie Tuttle, Grants Management Specialist, CDC Procurement and Grants Office, 2920 Brandywine Road, Suite 3000, Atlanta, GA 30341, Telephone: 770-488-2719, E-mail: Angie.Nation@cdc.hhs.gov.

Dated: May 4, 2004.
William P. Nichols,
Acting Director, Procurement and Grants Office, Centers for Disease Control and Prevention.

[FR Doc. 04-10533 Filed 5-7-04; 8:45 am]

BILLING CODE 4163-18-P